DEPARTMENT OF THE TREASURY

Customs Service

19 CFR Part 4

Vessels in Foreign and Domestic Trades

CFR Correction

In Title 19 of the Code of Federal Regulations, Parts 1 to 140, revised as of April 1, 2000, on page 64, in §4.95, the third sentence is removed.

[FR Doc. 00-55512 Filed 7-17-00; 8:45 am]

BILLING CODE 1505-01-D